DEPARTMENT OF THE TREASURY

Departmental Offices; Renewal of the Treasury Borrowing Advisory Committee of the Bond Market Association and Name Change to the Treasury Borrowing Advisory Committee of the Securities Industry and Financial Markets Association

ACTION: Notice of renewal and name change.

SUMMARY: In accordance with the Federal Advisory Committee Act, as amended (Pub. L. 92-463; 5 U.S.C. App. 2), with the concurrence of the General Services Administration, the Secretary of the Treasury has determined that renewal of the Treasury Borrowing Advisory Committee of The Bond Market Association (the “Committee”) is necessary and in the public interest in connection with the performance of duties imposed on the Department of the Treasury by law.

Effective November 1, 2006, the name of the Bond Market Association was changed to the Securities Industry and Financial Markets Association following the merger of the Securities Industry Association and the Bond Market Association. Hence, the name of the Committee has been changed to reflect this merger. The new name is the Treasury Borrowing Advisory Committee of the Securities Industry and Financial Markets Association.

FOR FURTHER INFORMATION CONTACT: Karthik Ramanathan, Director, Office of Debt Management (202) 622-2042.

SUPPLEMENTARY INFORMATION: The purpose of the Committee is to provide informed advice as representatives of the financial community to the Secretary of the Treasury and Treasury staff, upon the Secretary of the Treasury's request, in carrying out Treasury responsibilities for federal financing and public debt management.

The Committee meets to consider special items on which its advice is sought pertaining to immediate Treasury funding requirements and pertaining to longer term approaches to manage the national debt in a cost-effective manner. The Committee usually meets immediately before the Treasury announces each mid-calendar quarter funding operation, although special meetings also may be held.

Membership consists of 10-15 individuals who are experts in the government securities market and who are involved in senior positions in debt markets as institutional investors, investment advisors, or as dealers in government securities.

The Designated Federal Official for the Advisory Committee is the Director of the Office of Debt Management. The Treasury Department is filing copies of the Committee's renewal charter with appropriate committees in Congress.

Dated: April 17, 2007.
Anthony W. Ryan,
Assistant Secretary, Financial Markets.

[FR Doc. 07-1981 Filed 4-20-07; 8:45 am]

BILLING CODE 4811-42-M